DEPARTMENT OF TRANSPORTATION

Office of the Secretary

14 CFR Part 382

[Docket No. DOT-OST-2022-0144]

RIN 2105-AF14

Ensuring Safe Accommodations for Air Travelers With Disabilities Using Wheelchairs

AGENCY: Office of the Secretary (OST), Department of Transportation (DOT or the Department).

ACTION: Proposed rule; extension of comment period.

SUMMARY: The Department is extending through June 12, 2024, the period for interested persons to submit comments to its proposed rule on Ensuring Safe Accommodations for Air Travelers with Disabilities Using Wheelchairs.

DATES: The comment period for the proposed rule published March 12, 2024, at 89 FR 17766, is extended. Comments should be filed by June 12, 2024. Late-filed comments will be considered to the extent practicable.

ADDRESSES: You may file comments identified by the docket number DOT-OST-2022-0144 by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, Washington, DC, between 9 a.m. and 5 p.m. ET, Monday through Friday, except Federal holidays.

• Fax: (202) 493-2251.

Instructions: You must include the agency name and docket number DOT-OST-2022-0144 or the Regulatory Identification Number (RIN 2105-AF14) for the rulemaking at the beginning of your comment. All comments received will be posted without change to https://www.regulations.gov, including any personal information provided.

Privacy Act: Anyone can search the electronic form of all comments received in any of our dockets by the name of the individual submitting the comment (or signing the comment, if submitted on behalf of an association, business, labor union, etc.). You may review DOT's complete Privacy Act statement in the Federal Register published on April 11, 2000 (65 FR 19477-78), or you may visit https://www.transportation.gov/privacy.

Docket: For access to the docket to read background documents and comments received, go to https://www.regulations.gov or to the street address listed above. Follow the online instructions for accessing the docket.

FOR FURTHER INFORMATION CONTACT: Christopher Miller, Staff Attorney, Office of Aviation Consumer Protection, U.S. Department of Transportation, 1200 New Jersey Ave. SE, Washington, DC 20590, 202-366-9342 (phone), 202-366-7152 (fax), christopher.miller1@dot.gov.

SUPPLEMENTARY INFORMATION: On February 29, 2024, the Department publicly announced and posted to its website a notice of proposed rulemaking (NPRM) to ensure airline passengers who use wheelchairs can travel safely and with dignity. In the NPRM, which was published in the Federal Register on March 12, 2024, the Department proposed to change the way airlines provide accommodations for individuals who use wheelchairs. The NPRM proposed to set new standards for prompt, safe, and dignified assistance, to mandate enhanced training for airline employees and contractors who physically assist passengers with disabilities and handle passengers' wheelchairs, and to specify actions that airlines must take to protect passengers when a wheelchair is damaged during transport. The proposed rulemaking also clarified that any mishandling of a passenger's checked wheelchair or other assistive device is a violation of the Air Carrier Access Act (ACAA) and proposed to make the mishandling of a wheelchair or other assistive device a per se violation. In addition, the Department solicited comment on various issues including the size standards for lavatories on twin-aisle aircraft and reimbursements of the fare difference when the fare on a flight a wheelchair user took and the fare on a flight that a wheelchair would have taken if the wheelchair had been able to fit in the aircraft differ. The NPRM provided for a comment period of 60 days after publication of the NPRM in the Federal Register, i.e., May 13, 2024.

On March 20, 2024, Airlines for America, the International Air Transport Association, the National Air Carriers Association, the Regional Airline Association, and the Airline Service Providers Association (collectively “Associations”) filed a joint request to extend the public comment period for an additional 90 days. The Associations state that this additional time is needed because of the number of questions and requests for comment posed in the NPRM and the significance of the proposed changes to the accessibility obligations of airlines and airlines' service providers. The Associations also ask questions regarding the proposal and assert that answers to these questions are necessary to understand the NPRM's benefits and impact. The Department's responses to the questions raised in the joint request are posted in the rulemaking docket at https://www.regulations.gov/docket/DOT-OST-2022-0144.

On April 26, 2024, 16 disability rights organizations filed a joint comment urging the Department to deny the Associations' requests for an extension to the comment period for the NPRM. These organizations are: Access Living, American Association of People with Disabilities, The Arc of the United States, Blinded Veterans Association, Christopher & Dana Reeve Foundation, Cure SMA, Disability Rights Education & Defense Fund, Epilepsy Foundation, I AM ALS, Muscular Dystrophy Association, National Council on Independent Living, National Disability Rights Network, National MS Society, Paralyzed Veterans of America, Parent Project Muscular Dystrophy, and United Spinal Association. The disability rights organizations assert the Department has provided a sufficient time for relevant stakeholders to review and comment on the NPRM considering the multiple years' effort to improve the air travel experience of passengers who are wheelchair users, and the significant concerns for their safety and dignity in air travel.

The Department has carefully considered the request for extension of the comment period and the request to deny the extension and has determined to extend the comment period for the proposed rule for 30 days from May 13, 2024, to June 12, 2024. The Department believes that granting a one-month extension of the original comment period is sufficient to allow stakeholders to review potential impacts, to assess the Department's responses to the clarification requests, and to prepare comments.

Given the request from the disability rights organizations to deny the request to extend the comment period, the Department encourages all persons to submit comments when ready rather than waiting until the end of the extended period.

Signed in Washington, DC, on or around this 1st day of May 2024, under authority delegated at 49 CFR 1.27(n).
Blane A. Workie,
Assistant General Counsel DOT's Office of Aviation Consumer Protection.

[FR Doc. 2024-09976 Filed 5-7-24; 8:45 am]

BILLING CODE 4910-9X-P